DEPARTMENT OF AGRICULTURE

Grain Inspection, Packers and Stockyards Administration

Opportunity To Comment on the Applicants for the Indianapolis, Indiana Area

AGENCY: Grain Inspection, Packers and Stockyards Administration, USDA.

ACTION: Notice and request for comments.

SUMMARY: GIPSA requests comments on the applicants for designation to provide official services in the Indianapolis, Indiana area.

DATES: Comments must be postmarked or electronically dated on or before February 14, 2013.

ADDRESSES: We invite you to submit comments on these applicants. You may submit comments by using any of the following methods:

• Submit Comments Using the Internet: Go to Regulations.gov (http://www.regulations.gov). Instructions for submitting and reading comments are detailed on the site.

• Mail, Courier or Hand Delivery: Eric J. Jabs, Chief, USDA, GIPSA, FGIS, QACD, QADB, 10383 North Ambassador Drive, Kansas City, MO 64153.

• Fax: Eric J. Jabs, 816-872-1257.

• Email: Eric.J.Jabs@usda.gov.

Read Applications and Comments: All applications and comments will be available for public inspection at the office above during regular business hours (7 CFR 1.27(c)).

FOR FURTHER INFORMATION CONTACT: Eric J. Jabs, 816-659-8408 or Eric.J.Jabs@usda.gov.

SUPPLEMENTARY INFORMATION: In the October 31, 2012, Federal Register (77 FR 65855), GIPSA asked persons interested in providing official services in the Indianapolis, Indiana area to submit an application for designation.

There were two applicants for the Indianapolis, Indiana area: Mid-Iowa Grain Inspection, Inc. (Mid-Iowa) and East Indiana Grain Inspection, Inc. (East Indiana). Both applicants are currently designated official agencies and applied for designation to provide official services the entire area formerly assigned to Indianapolis Grain Inspection and Weighing Service, Inc. The area, in the State of Indiana, includes Bartholomew; Brown; Hamilton, south of State Route 32; Hancock; Hendricks; Johnson; Madison, west of State Route 13 and south of State Route 132; Marion; Monroe; Morgan; and Shelby Counties.

GIPSA is publishing this notice to provide interested persons the opportunity to present comments concerning the applicants. Commenters are encouraged to submit reasons and pertinent data for support or objection to the designation of the applicants. All comments must be submitted to the Quality Assurance and Compliance Division at the above address. Comments and other available information will be considered in making a final decision. GIPSA will publish notice of the final decision in the Federal Register.

Authority: 7 U.S.C. 71-87k.

Larry Mitchell,
Administrator, Grain Inspection, Packers and Stockyards Administration.

[FR Doc. 2013-00676 Filed 1-14-13; 8:45 am]

BILLING CODE 3410-KD-P